FEDERAL COMMUNICATIONS COMMISSION

[DA 17-181]

Disability Advisory Committee; Announcement of Members and Date of First Meeting

AGENCY: Federal Communications Commission.

ACTION: Notice.

SUMMARY: This document announces the meeting date, time and agenda of the first meeting of the second term of its Disability Advisory Committee (“DAC” or “Committee”). The meeting is open to the public. During this meeting, members of the Committee will discuss: The roles and responsibilities of the Committee and its members; issues that the Committee will address; recommended subcommittees, subcommittee membership and meeting schedule, and the tasks for which each subcommittee will be responsible; and any other topics related to the DAC's work that may arise.

DATES: The Committee's next meeting will take place on Tuesday, March 21, 2017, 9:00 a.m. to 1:30 p.m. (EST), at the headquarters of the Federal Communications Commission (FCC).

ADDRESSES: Federal Communications Commission, 445 12th Street SW., Washington, DC 20554, in the Commission Meeting Room.

FOR FURTHER INFORMATION CONTACT: Elaine Gardner, Consumer and Governmental Affairs Bureau, (202) 418-0581 (voice) email: Elaine.Gardner@fcc.gov.

SUPPLEMENTARY INFORMATION: On December 2, 2014, in document DA 14-1737, published at 79 FR 73309, December 10, 2014, the FCC announced the establishment and process for appointment of members of the DAC, an advisory committee, to provide advice and recommendations to the FCC on a wide array of disability matters. The DAC's first term expired on December 29, 2016. On September 6, 2016, the FCC's Consumer and Governmental Affairs Bureau in document DA 16-1011, published at 81 FR 66020, September 26, 2016, announced the anticipated renewal of the DAC and solicited applications for membership for the DAC's second term, which runs from December 30, 2016, through December 29, 2018. On January 5, 2017, in document DA 17-19, announcement of the members selected for the renewed second term of the DAC was made. As authorized by Federal Advisory Committee Act, the Committee has established subcommittees, and the Commission has invited additional individuals and organizations who are not members of the full Committee to participate on these subcommittees. For the second term of the DAC, subcommittees are established to focus on emergency communications, relay/equipment distribution, technology transitions, and video programming.

The March 21, 2017 meeting will be led by the new DAC co-chairs: Lise Hamlin, Director of Public Policy of the Hearing Loss Association of America, and Sam Joehl, Principal Technical Consultant of the SSB BART Group. In addition, initial subcommittee meetings may be held following the meeting of the full DAC.

A reserved amount of time will be available on the agenda for comments and inquiries from the public. The public may comment or ask questions of presenters via the email address livequestions@fcc.gov, and may view the meeting through and webcast with open captioning at www.fcc.gov/live. These comments or questions may be addressed during the public comment period.

During its first meeting, members of the Committee will clarify the Committee's roles and responsibilities and begin to define, clarify, and prioritize issues that the Committee and its subcommittees will address.

The meeting site is fully accessible to people using wheelchairs or other mobility aids. Sign language interpreters, open captioning, and assistive listening devices will be provided on site. Other reasonable accommodations for people with disabilities are available upon request. If making a request for an accommodation, please include a description of the accommodation you will need and tell us how to contact you if we need more information. Make your request as early as possible by sending an email to fcc504@fcc.gov or calling the Consumer and Governmental Affairs Bureau at 202-418-0530 (voice), 202-418-0432 (TTY). Last minute requests will be accepted, but may be impossible to fill. The meeting will be webcast with open captioning, at: www.fcc.gov/live.

To request materials in accessible formats for people with disabilities (Braille, large print, electronic files, audio format), send an email to fcc504@fcc.gov or call the Consumer and Governmental Affairs Bureau at (202) 418-0530 (voice), (202) 418-0432 (TTY).

Federal Communications Commission.
D'wana Terry,
Acting Deputy Chief, Consumer and Governmental Affairs Bureau.

[FR Doc. 2017-04408 Filed 3-6-17; 8:45 am]

BILLING CODE 6712-01-P